NUCLEAR REGULATORY COMMISSION

[NRC-2009-0481]

Draft Regulatory Guide: Reissuance and Availability

AGENCY: Nuclear Regulatory Commission.

ACTION: Notice of Reissuance and Availability of Draft Regulatory Guide, DG-1217 “Protection Against Turbine Missiles.”

SUMMARY: On November 2, 2009 (74 FR 56672), the U.S. Nuclear Regulatory Commission (NRC) published a notice of issuance and availability of Draft Regulatory Guide (DG)—1217, “Protection Against Turbine Missiles.” The guide is being reissued to allow further public review and comment following additional changes to the document.

FOR FURTHER INFORMATION CONTACT: Simon Sheng, U.S. Nuclear Regulatory Commission, Washington, DC 20555-0001, telephone: 301-415-2280, e-mail Simon.Sheng@nrc.gov or R.A. Jervey, telephone: 301-251-7404, e-mail Richard.Jervey@nrc.gov

SUPPLEMENTARY INFORMATION:

I. Introduction

The U.S. Nuclear Regulatory Commission (NRC) is reissuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

General Design Criterion 4, “Environmental and Dynamic Effects Design Bases,” of Appendix A, “General Design Criteria for Nuclear Power Plants,” to Title 10 of the Code of Federal Regulations (10 CFR) Part 50, “Domestic Licensing of Production and Utilization Facilities,” requires, in part, that structures, systems, and components important to safety be appropriately protected against the effects of missiles that might result from equipment failures. Failures that could occur in the large steam turbines of the main turbine-generator sets have the potential for producing large high-energy missiles.

This guide describes methods acceptable to the NRC staff for protecting structures, systems, and components (SSCs) against missiles resulting from turbine failure by the appropriate orientation and placement of the turbine-generator set, the management of the probability of turbine missile generation, and the use of missile barriers. The guide also identifies SSCs to be considered in designing protection from turbine missiles.

The draft regulatory guide (DG) is temporarily identified by its task number, DG-1217, which should be mentioned in all related correspondence. DG-1217 is proposed Revision 2 of Regulatory Guide 1.115, Revision 1, dated July 1977, “Protection Against Turbine Missiles.” DG-1217 was previously issued for comment November 2, 2009 (74 FR 56672). The draft guide is being reissued to allow further public review and comment following additional changes to the document. DG-1217 now identifies that applicants who choose to use a risk informed approach to demonstrate adequate protection against turbine missiles would be considered on a case-by-case basis. Additionally, DG-1217 uses the term `essential', instead of the term `safety related' to define affected SSCs.

Previously received public comments and the staff's consideration may be reviewed electronically under the NRC's Agencywide Documents Access and Management System (ADAMS) Accession Number ML101660585.

II. Further Information

The NRC staff is soliciting comments on DG-1217. Comments may be accompanied by relevant information or supporting data and should mention DG-1217 in the subject line. Comments submitted in writing or in electronic form will be made available to the public in their entirety through the NRC's Agencywide Documents Access and Management System (ADAMS).

ADDRESSES: You may submit comments by any one of the following methods. Please include Docket ID NRC-2009-0481 in the subject line of your comments. Comments submitted in writing or in electronic form will be posted on the NRC Web site and on the Federal rulemaking website Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0481. Address questions about NRC dockets to Carol Gallagher 301-492-3668; e-mail Carol.Gallagher@nrc.gov.

Mail comments to: Cindy K. Bladey, Chief, Rules, Announcements, and Directives Branch (RADB), Office of Administration, Mail Stop: TWB-05-B01M, U.S. Nuclear Regulatory Commission, Washington, DC 20555-0001, or by fax to RADB at 301-492-3446.

You can access publicly available documents related to this notice using the following methods:

NRC's Public Document Room (PDR): The public may examine and copy for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Regulatory Analysis is available electronically under ADAMS Accession Number ML103350166.

Comments would be most helpful if received by June 3, 2011. Comments received after that date will be considered if it is practical to do so, but the NRC is able to ensure consideration only for comments received on or before this date. Although a time limit is given, comments and suggestions in connection with items for inclusion in guides currently being developed or improvements in all published guides are encouraged at any time.

Electronic copies of DG-1217 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML103350136.

Regulatory guides are not copyrighted, and Commission approval is not required to reproduce them.

Dated: Dated at Rockville, Maryland, this 28th day of April, 2011.
For the Nuclear Regulatory Commission.
Harriet Karagiannis,
Acting Chief, Regulatory Guide Development Branch, Division of Engineering, Office of Nuclear Regulatory Research.

[FR Doc. 2011-11108 Filed 5-5-11; 8:45 am]

BILLING CODE 7590-01-P